DEPARTMENT OF TRANSPORTATION

Federal Aviation Administration

Availability of Changes to Advisory Circular 27-1B, Certification of Normal Category Rotorcraft, and Advisory Circular 29-2C, Certification of Transport Category Rotorcraft

AGENCY: Federal Aviation Administration (FAA), DOT.

ACTION: Notice of availability of proposed Advisory Circular (AC) material and request for comments.

SUMMARY: This notice announces the availability of and requests comments on proposed changes to AC 27-1B, Certification of Normal Category Rotorcraft, and AC 29-2C, Certification of Transport Category Rotorcraft. These proposed changes will revise AC paragraph 27.351 and AC paragraph 29.351B, Yawing Conditions, dated 2/12/03. This notice is necessary to give all interested persons an opportunity to comment on the proposed AC change.

DATES: We must receive your comments by July 21, 2005.

ADDRESSES: Send all comments on the proposed AC changes to the Federal Aviation Administration, Attn: Kathy Jones, ASW-111, 2601 Meacham Boulevard, Fort Worth, TX 76193-0111, telephone (817) 222-5359; fax (817) 222-5961; or e-mail: http://www.Kathy.L.Jones@faa.gov. You may inspect comments at the above address between 7:30 a.m. and 4 p.m. weekdays, except Federal holidays.

FOR FURTHER INFORMATION CONTACT: Jim Grigg, FAA, AEU-100, c/o American Embassy, PSC 82 Box 002, APO AE 09170, telephone 011.32.2.508.2710; fax 011.32.2.230.68.99; e-mail http://www.Jim.Grigg@FAA.GOV.

SUPPLEMENTARY INFORMATION:

Comments Invited

We invite all interested persons to comment on the proposed AC changes by submitting such written data, views, or arguments as they desire. If you have comments, you should identify AC 27-1B, AC paragraph 27.351 or AC 29-2C, AC paragraph 29.351B, and submit your comments, in duplicate, to the address specified above. We will consider all communications received by the closing date before issuing the final AC. You can get a copy of the proposed material by contacting the person named under the caption ADDRESSES or by downloading the proposed AC from the following Internet Web site: http://www.airweb.faa.gov/rgl.

Background

A harmonized working group developed this material. When these AC paragraphs are finalized, they will be posted on the Internet Web site as accepted, and they will be published in the next updates to AC 27-1B and AC 29-2C.

Issued in Fort Worth, Texas on June 10, 2005.
S. Frances Cox,
Acting Manager, Rotorcraft Directorate, Aircraft Certification Service.

[FR Doc. 05-12142 Filed 6-20-05; 8:45 am]

BILLING CODE 4910-13-M